DEPARTMENT OF TRANSPORTATION

National Highway Traffic Safety Administration

49 CFR Parts 571 and 588

[Docket No. NHTSA-2004-17745]

RIN 2127-AI95

Federal Motor Vehicle Safety Standards; Child Restraint Systems; Child Restraint Systems Recordkeeping Requirements

AGENCY: National Highway Traffic Safety Administration (NHTSA), Department of Transportation.

ACTION: Notice of proposed rulemaking (NPRM).

SUMMARY: This document proposes to amend the content of the owner registration form required by the Federal child restraint standard to allow information about registering on-line to be on the card. The proposed amendments would enhance the opportunity of consumers to register their restraints online, which may increase registration rates. The proposal would also better enable manufacturers to supplement recall notification via first-class mail with e-mail notification, which may increase the number of owners learning of a recall and responding to it. This NPRM also proposes that the telephone number that manufacturers must provide on child restraint labels for the purpose of enabling consumers to register by telephone must be a U.S. number.

DATES: You should submit comments early enough to ensure that Docket Management receives them not later than August 13, 2004.

ADDRESSES: You may submit comments (identified by the DOT DMS Docket Number) by any of the following methods:

• Web site: http://dms.dot.gov. Follow the instructions for submitting comments on the DOT electronic docket site.

• Fax: (202) 493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Comments heading under the SUPPLEMENTARY INFORMATION section of this document. Note that all comments received will be posted without change to http://dms.dot.gov, including any personal information provided. Please see the information regarding the Privacy Act under the Comments heading.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: The following persons at the National Highway Traffic Safety Administration:

For non-legal issues: Mr. Tewabe Asebe of the NHTSA Office of Rulemaking at (202) 366-2365.

For legal issues: Mr. Christopher Calamita of the NHTSA Office of Chief Counsel at (202) 366-2992.

You may send mail to both of these officials at the National Highway Traffic and Safety Administration, 400 Seventh St., SW., Washington, DC 20590.

SUPPLEMENTARY INFORMATION:

I. Introduction

II. Background

III. CRS Registration and Internet Resources

a. Changes to the Registration Form.

1. Manufacturer's Internet Address.

2. Space for Consumers' E-Mail Addresses.

b. The Electronic Registration Form

c. Registration by Telephone

IV. New NHTSA Hotline Number.

V. Rulemaking Analyses and Notices

VI. Submission of Comments

I. Introduction

To improve recall effectiveness, this document proposes to permit manufacturers of child restraint systems (CRSs) to include on the mandatory CRS registration form information pertaining to the opportunity of owners to register online and a field for customer e-mail addresses. The proposed rule would enhance the existing regulations intended to improve the percentage of recalled restraints that are remedied in a recall campaign for a noncompliance or defect. If a manufacturer were to voluntarily collect e-mail addresses as part of a CRS registration program, a record of these addresses would have to be maintained for six years in the same manner as is currently required for all CRS registration information.

II. Background

Federal Motor Vehicle Safety Standard No. 213, “Child Restraint Systems” (49 CFR 571.213) establishes an owner registration program for child restraint systems. NHTSA implemented the program to improve the effectiveness of manufacturer campaigns to recall child restraints that contain a safety-related defect or that fail to conform to FMVSS No. 213. By increasing the number of identified child restraint purchasers, the program increases the manufacturers' ability to inform owners of restraints about defects or noncompliances in those restraints.

Under the program, child restraint manufacturers are required to provide a registration form attached to each child restraint (S5.8). The registration form must conform in size, content and format to forms depicted in the standard (figures 9a and 9b). Each form must include a detachable postage-paid postcard which provides a space for the consumer to record his or her name and address, and must be preprinted with the restraint's model name or number and its date of manufacture. Except for information that distinguishes a particular restraint from other systems, no other information is permitted to appear on the postcard. CRS manufacturers are also required to supply a telephone number on CRS labels to enable owners (particularly second-hand owners) to register over the telephone. NHTSA requires manufacturers to keep a record of registered owner information along with the relevant CRS information (restraint model, serial number, and manufactured dates) for not less than six years from the date of manufacture of the CRS (49 CFR Part 588, Child restraint systems recordkeeping requirements).

In the event of a recall, manufacturers must send notification by first-class mail to the registered CRS users. (Public notice of the recall can be also required.) Prior to the registration requirement,¹ an estimated 3 percent of consumers registered their CRSs. Currently, according to data from NHTSA's Office of Defect Investigation, the registration rate is at 27 percent.

¹ The final rule establishing the registration requirement was published September 10, 1992 and became effective March 9, 1993. (57 FR 41428).

Since the CRS registration requirement became effective, access to the Internet by the general public has risen significantly. The September 2001 U.S. Census Bureau report, Home Computer and Internet Use in the United States: August 2000, revealed that more than half of the United States population has home computers; greater than a twofold increase from 1993. The report also stated that forty-two percent of all households had at least one household member who used the Internet at home in 2000. Accompanying this increase in Internet access has been a substantial rise in online consumer spending. According to a February 15, 2001, U.S. Census Bureau news release, online consumer spending jumped from $7.7 billion in 1998 to $17.3 billion in 1999. From the statistics above, it is apparent that the Internet, as an electronic media, has a major role in business transactions and information dissemination in the U.S. today. The rapid growth of the Internet and Internet access provides an opportunity to improve the effectiveness of CRS recall campaigns through increased owner registration.

III. CRS Registration and Internet Resources

This document proposes to permit CRS manufacturers the option of including specified wording in the CRS registration form to provide for online registration of CRSs. NHTSA does not currently prohibit CRS manufacturers from using the Internet in their owner registration programs. However, wording about registering online cannot currently appear on the card.

The proposed amendments would facilitate online registration of child restraints, which may increase registration rates. The proposal would also better enable manufacturers to supplement recall notification via first-class mail with e-mail notification, which may increase the number of owners learning of a recall and responding to it.

a. Changes To The Registration Form

The proposed rule would permit manufacturers to add to the registration form: (a) Specified statements informing CRS owners that they may register online; (b) the Internet address for registering with the company; (c) revisions to statements reflecting use of the Internet to register; and (d) a space for the consumer's e-mail address. For those CRS owners with access to the Internet, online registration may be a preferred method of registering a CRS. Providing for another means of registration could help increase the number of registered CRSs.

Under today's NPRM, each CRS manufacturer would decide on its own whether to include the new wording on its registration forms.² NHTSA is not mandating that all registration forms have the wording because such a requirement would implicitly require manufacturers to have and maintain an internet registration system. While over forty percent of U.S. households had internet access in 2000, a majority did not. Further, it is uncertain how many households in that forty percent had consistent access to the internet.

² Manufacturers could choose whether to include the wording, but they would not be permitted to vary it.

1. Manufacturer's internet Address

Manufacturers choosing the option would be required to provide an internet address that directly links consumers to the registration form. By preventing the consumer from having to search for the form on the manufacturer's Web site, the ease and convenience of registering is increased.

2. Space for Consumers' E-Mail Addresses

Registration cards are currently required to provide space for a CRS owner to provide his or her name, street address, city, state, and ZIP Code, enabling a manufacturer to send recall notification by first-class mail as required by 49 U.S.C. 30119(d)(2).

In October 2002, the agency published a technical report titled, “Evaluation of Child Safety Seat Registration,” ³ which, among other things, evaluated tools that could be used to increase the number of CRS owner registrations. The report suggested the use of online registration and notification, stating: “Adding a space for an e-mail address on the registration form could make initial recall notification faster. It could also be helpful in locating seat owners that have changed residence but retained their e-mail address.”

³ DOT HS 809 518, NHTSA Technical Report.

By permitting the collection of e-mail addresses on the CRS registration form as proposed in this NPRM, manufacturers would have the ability to provide e-mail notification of a recall in conjunction with the mandatory first-class mail notification. Providing an additional method of notifying CRS owners of a recall would increase the likelihood of a recalled CRS being remedied.

Collection of customer e-mail addresses could also make initial recall notification faster. A CRS customer can receive an e-mail notification within a very short time frame after being issued. Conversely, first-class mail notification can take up to several days to reach the intended customer, and even longer if the letter must be forwarded to a new address. Further, a CRS owner may maintain the same e-mail address even after moving to a new street address, resulting in an e-mail notification reaching the owner even if mail forwarding has been discontinued.

With less than half of the nation having access to e-mail in the home, a voluntary collection of e-mail addresses provides manufacturers with the flexibility of supplementing first-class mail notification without imposing potentially prohibitive costs. While the collection of e-mail addresses would be voluntary, if a manufacturer were to collect e-mail addresses it would be required to maintain a record of all collected e-mails for a period of 6 years, just as with the other registration information.

Question For Comment: 49 U.S.C. 30119(d)(2) specifies that recall notification shall be sent by first class mail to the most recent purchaser known to the manufacturer.⁴ The amendments proposed in this document would establish a means by which CRS manufacturers would have CRS owners' e-mail addresses in addition to first class mail addresses. Comments are requested on the costs and benefits of having manufacturers e-mail the recall notice if they have already provided notification by first-class mail. Under what circumstances should manufacturers be required to provide recall notification using both e-mail and first-class mail?

⁴ That section also provides that in addition, if the Secretary decides that public notice is required for motor vehicle safety, public notice shall be given in the way required by the Secretary after consulting with the manufacturer.

Separate List. In developing the current registration requirements, focus groups reacted favorably to the idea of being assured by the manufacturer that information retained in these records would not be used for commercial mailing lists. We expect that the public would respond similarly to assurances that a registered e-mail address would not result in unsolicited e-mails. NHTSA expects that manufacturers will respect owners' preferences that this information, along with other registration information, will be kept separate from other customer lists.

b. The Electronic Registration Form

FMVSS No. 213 mandates that CRS manufacturers provide a standardized registration form because a standardized format increases registration rates.⁵ To increase the likelihood that owners will find online registration user-friendly, the proposed rule would standardize the appearance of the online registration form presented to the consumer. That is, similar to the standardized mail-in registration form, the only fields that would be permitted on an online form would be those for: (a) The owner's name and address; (b) the restraint model and serial number; (c) date of manufacture of the CRS; and (d) at the manufacturer's option, the owner's e-mail address. Comments are requested on whether the above fields should be required fields, i.e., the registration will not be “accepted” unless the information is provided. The online form would be required to contain relevant portions of the standardized warnings and other information mandated for mail-in registration cards, (including the restraint owner's name and address; the restraint model and serial number; the restraint manufacture date; and at the manufacturer's option, the restraint owner's e-mail address).

⁵ In developing the mail-in registration form, the agency found that focus groups “widely and enthusiastically accepted the text and format of the parts of the form that did not vary among the proposed options.” 57 FR 414321.

The only additional information permitted on the online form would be information identifying the manufacturer and a link to the manufacturer's Web site home page. Further, manufacturers would be prevented from having additional screens or advertisement banners appear as a result of a CRS owner accessing the Web page that contains the registration form (e.g., “pop-up advertisements” would be prohibited). By preventing additional information or advertising from appearing on the registration page or as a result of accessing the registration page, the benefits of a standardized registration form would be maintained, helping to improve the rate of registration. Comments are requested on whether some additional information should be permitted or required on the form, e.g., instructions to the consumer as to where the restraint's model name and number can be found. Unlike the registration form that is attached to the child restraint, the electronic registration form would not have the model name and number pre-printed on the form, so consumers must enter this information themselves. Comments are requested on how to facilitate a convenient and accurate entering of this information by the consumer.

c. Registration By Telephone

When the agency established the CRS registration form requirement, we also established a requirement for CRS manufacturers to label each CRS with a telephone number that consumers could use to register their restraints in the event the mail-in form wasn't used. This is particularly important for persons owning secondhand restraints that are missing the original registration form.

NHTSA was asked in a request for an interpretation of FMVSS No. 213 whether the telephone number must be a U.S. number. Our answer was the standard does not require a U.S. number, but we were concerned that the use of a non-U.S. telephone number would present a high cost to a CRS owner seeking to register a CRS and would be a disincentive for consumers to register.⁶

⁶ http://www.nhtsa.dot.gov/cars/rules/interps/files/002775cmc_phoneno.html.

We are unaware of any manufacturer currently providing a non-U.S. telephone number. However, in order to address this foreseeable impediment to registration of owners (particularly owners of secondhand restraints), we are proposing to require that the telephone number labeled on the CRS for registration purposes must be a U.S. number.

IV. New NHTSA Hotline Number

CRS manufacturers are required to provide the telephone number for the U.S. Government's (NHTSA's) Auto Safety Hotline on both CRS labels and the accompanying printed instructions. The Auto Safety Hotline provides CRS owners with information on product recalls. Previously, manufacturers were required to provide two phone numbers; a toll-free number and a number for the District of Columbia area. The separate phone number for the District of Columbia area is no longer needed, as the toll-free number now functions for the entire U.S. Accordingly, child restraint labels and instructions would only need to refer to the toll-free number. This change would reduce the amount of wording on the child restraint label, which should help increase the readability of the label.

V. Rulemaking Analyses and Notices

A. Executive Order 12866 and DOT Regulatory Policies and Procedures

NHTSA has considered the impact of this rule under Executive Order 12866 and the Department of Transportation's regulatory policies and procedures. This rulemaking document was not reviewed under E.O. 12866, “Regulatory Planning and Review.” This action has been determined to be “nonsignificant” under the Department of Transportation's regulatory policies and procedures. We do not anticipate this proposal to result in any costs for CRS manufacturers. The proposed rule would not establish any new requirements for manufacturers of CRSs unless a manufacturer chooses to collect e-mail addresses voluntarily or provide an Internet address on the CRS registration card. If a manufacturer were to voluntarily collect customer e-mail addresses and provide for online registration of restraints, the anticipated costs for the recordkeeping requirements would be minimal.

Many CRS manufacturers already provide an electronic product registration service and by encouraging online registration, manufacturers could reduce the number of postage-paid registration cards returned, thereby reducing postage fees for the manufacturer.⁷ Manufacturers that collect customer e-mail addresses could incorporate this information into the registration records currently maintained. Also, CRS owner information submitted online would be in electronic format, minimizing the data entry burden required to record owner information and reduce recordkeeping costs.

⁷ A manufacturer is not charged a fee by the post office for a postage pre-paid postcard until the card is actually sent through the mail.

While the use of online resources for CRS registration has the potential for increased CRS registration and enhanced recall notification, we are not requiring manufacturers to have a means by which consumers can register their CRSs via the Internet. We want to avoid imposing potentially prohibitive costs on manufacturers not currently equipped to incorporate Internet resources into CRS registration. Manufacturers not currently situated for Internet registration would have the cost of developing an Internet system to process registrations as well as the costs associated with revising the mandated registration forms and modifying recordkeeping procedures. If and when Internet and e-mail access becomes more universal, the benefit of mandatory Internet registration provisions can be evaluated.

B. Regulatory Flexibility Act

NHTSA has considered the impacts of this rulemaking action under the Regulatory Flexibility Act (5 U.S.C. 601 et seq.). I certify that the proposed amendment would not have a significant economic impact on a substantial number of small entities. The proposed rule would not impose any new requirements on manufacturers that produce CRSs. The proposal would provide flexibility in CRS registration by allowing manufacturers to promote electronic registration.

C. Paperwork Reduction Act

Under the procedures established by the Paperwork Reduction Act of 1995, a person is not required to respond to a collection of information by a Federal agency unless the collection displays a valid OMB control number. The rule proposed in this document would reconfigure the information collection and recordkeeping requirements of FMVS No. 213 and 49 CFR part 588, which have been approved under OMB No. 2127-0576. The agency does not anticipate this reconfiguration to increase the cost or burden of the approved collection.

Agency: National Highway Traffic Safety Administration (NHTSA).

Title: Voluntary Child Safety Registration Form.

Type of Request: Reconfiguration of existing collection.

OMB Clearance Number: 2127-0576.

Form Number: None.

Summary of the Collection of Information

Under the rule proposed in this document, if a CRS manufacturer were to voluntarily collect an e-mail address as part of the CRS registration, then the manufacturer would be required to maintain a record of that information. The recordkeeping format and retention requirements for CRS owner e-mail addresses would be identical to the format and retention requirements currently mandated for owner registration under 49 CFR part 588. The proposed rule would also require that if a manufacturer were to voluntarily provide for electronic registration, then the manufacturer would be required to use a standardized format similar to the format currently required for the postage-paid registration form.

The proposed rule would not mandate the collection of e-mail addresses or the use of electronic registration.

Description of the Need for the Information and Proposed Use of the Information

Public access and use of the Internet has increased exponentially since its inception. The proposed rule would permit manufacturers to take advantage of this growth in technology and use electronic registration as a supplement to registration by mail. This would provide CRS owners with an additional option for registering a CRS and increase the number of CRSs registered. By increasing the number of identified child restraint purchasers, the program increases the manufacturers' ability to inform owners of restraints about defects or noncompliances in those restraints.

Description of the Likely Respondents (Including Estimated Number, and Proposed Frequency of Response to the Collection of Information)

NHTSA estimates that twenty-three CRS manufacturers would be subject to the reconfigured collection requirements. If a manufacturer were to voluntarily collect a CRS owner's e-mail address as part of the CRS registration, then the manufacturer would be required to record and maintain that e-mail address along with the registration information currently recorded and maintained. If a CRS manufacturer were to provide for electronic registration, the electronic registration form would be required to be in a format similar to the format for the postage-paid form.

Estimate of the Total Annual Reporting and Recordkeeping Burden Resulting From the Collection of Information

NHTSA does not anticipate a significant change to the hour burden or costs associated with child restraint registration. By allowing manufacturers the ability to promote online registration, we anticipate a reduction in the collection and recordkeeping burden. Internet registration would reduce a manufacturer's postage costs by reducing the number of postage-paid registration cards sent through the mail. Registration information collected on the Internet would be in an electronic form, which could be more easily transferred and stored than paper registration cards. Registration information received in electronic form would reduce the data entry burden of CRS manufacturers. This reduction in burden would offset any burden created by the e-mail record keeping requirement and the standardized Internet registration form.

NHTSA requests comment on its estimates of the total annual hour and cost burdens resulting from this collection of information. Please submit any comments to the NHTSA Docket Number referenced in the heading of this notice or to: Mr. Tewabe Asebe of the NHTSA Office of Rulemaking at (202) 366-2365. Comments are due by August 13, 2004.

D. National Environmental Policy Act

NHTSA has analyzed this proposed amendment for the purposes of the National Environmental Policy Act and determined that, if adopted, it would not have any significant impact on the quality of the human environment.

E. Executive Order 13132 (Federalism)

Executive Order 13132 requires NHTSA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, the agency may not issue a regulation with Federalism implications, that imposes substantial direct costs, and that is not required by statute, unless the Federal government provides the funds necessary to pay the direct compliance costs incurred by State and local governments, or the agency consults with State and local officials early in the process of developing the proposed regulation. NHTSA may also not issue a regulation with Federalism implications and that preempts State law unless the agency consults with State and local officials early in the process of developing the proposed regulation.

The agency has analyzed this rulemaking action in accordance with the principles and criteria contained in Executive Order 13132 and has determined that it does not have sufficient federalism implications to warrant consultation with State and local officials or the preparation of a federalism summary impact statement. The proposed rule would have no substantial effects on the States, or on the current Federal-State relationship, or on the current distribution of power and responsibilities among the various local officials.

F. Executive Order 12778 (Civil Justice Reform)

This proposed rule would not have any retroactive effect. Under section 49 U.S.C. 30103, whenever a Federal motor vehicle safety standard is in effect, a State may not adopt or maintain a safety standard applicable to the same aspect of performance which is not identical to the Federal standard, except to the extent that the State requirement imposes a higher level of performance and applies only to vehicles procured for the State's use. Section 49 U.S.C. 30161 sets forth a procedure for judicial review of final rules establishing, amending or revoking Federal motor vehicle safety standards. That section does not require submission of a petition for reconsideration or other administrative proceedings before parties may file suit in court.

G. National Technology Transfer and Advancement Act

Section 12(d) of the National Technology Transfer and Advancement Act of 1995 (NTTAA), Public Law 104-113, section 12(d) (15 U.S.C. 272) directs us to use voluntary consensus standards in regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

The agency searched for, but did not find any voluntary consensus standards relevant to this proposed rule.

H. Unfunded Mandates Reform Act

Section 202 of the Unfunded Mandates Reform Act of 1995 (UMRA) requires Federal agencies to prepare a written assessment of the costs, benefits, and other effects of proposed or final rules that include a Federal mandate likely to result in the expenditure by State, local, or tribal governments, in the aggregate, or by the private sector, of more than $100 million in any one year (adjusted for inflation with base year of 1995). Before promulgating a rule for which a written statement is needed, section 205 of the UMRA generally requires NHTSA to identify and consider a reasonable number of regulatory alternatives and adopt the least costly, most cost-effective, or least burdensome alternative that achieves the objectives of the rule. The provisions of section 205 do not apply when they are inconsistent with applicable law. Moreover, section 205 allows NHTSA to adopt an alternative other than the least costly, most cost-effective, or least burdensome alternative if the agency publishes with the final rule an explanation why that alternative was not adopted. If adopted, this proposed rule would not impose any unfunded mandates under the Unfunded Mandates Reform Act of 1995. This proposed rule would not result in costs of $100 million or more to either State, local, or tribal governments, in the aggregate, or to the private sector. Thus, this proposed rule is not subject to the requirements of sections 202 and 205 of the UMRA.

I. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

VI. Submission of Comments

How Do I Prepare and Submit Comments?

Your comments must be written and in English. To ensure that your comments are filed correctly in the Docket, please include the docket number of this document in your comments.

Your comments must not be more than 15 pages long. (49 CFR 553.21) NHTSA established this limit to encourage you to write your primary comments in a concise fashion. However, you may attach necessary additional documents to your comments. There is no limit on the length of the attachments.

Please submit two copies of your comments, including the attachments, to Docket Management at the address given above under ADDRESSES. You may also submit your comments to the docket electronically by logging onto the Docket Management System (DMS) Web site at http://dms.dot.gov. Click on “Help & Information” or “Help/Info” to obtain instructions for filing your comments electronically. Please note, if you are submitting comments electronically as a PDF (Adobe) file, we ask that the documents submitted be scanned using Optical Character Recognition (OCR) process, thus allowing the agency to search and copy certain portions of your submissions.⁸

⁸ Optical character recognition (OCR) is the process of converting an image of text, such as a scanned paper document or electronic fax file, into computer-editable text.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in NHTSA's confidential business information regulation (49 CFR part 512).

Will the Agency Consider Late Comments?

NHTSA will consider all comments that Docket Management receives before the close of business on the comment closing date indicated above under DATES. To the extent possible, the agency will also consider comments that Docket Management receives after that date. If Docket Management receives a comment too late for the agency to consider it in developing a final rule (assuming that one is issued), the agency will consider that comment as an informal suggestion for future rulemaking action.

How Can I Read the Comments Submitted By Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov).

2. On that page, click on “simple search.”

3. On the next page (http://dms.dot.gov/search/searchFormSimple.cfm) type in the four-digit docket number shown at the beginning of this document. Example: If the docket number were “NHTSA-1998-1234,” you would type “1234.” After typing the docket number, click on “search.”

4. On the next page, which contains docket summary information for the docket you selected, click on the desired comments. You may download the comments. Although the comments are imaged documents, instead of word processing documents, the “pdf” versions of the documents are word searchable.

Please note that even after the comment closing date, NHTSA will continue to file relevant information in the Docket as it becomes available. Further, some people may submit late comments. Accordingly, the agency recommends that you periodically check the Docket for new material.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects

49 CFR Part 571

Motor vehicle safety, Reporting and recordkeeping requirements, Tires, Incorporation by Reference.

49 CFR Part 588

Motor vehicle safety, Reporting and recordkeeping requirements.

In consideration of the foregoing, NHTSA proposes to amend 49 CFR parts 571 and 588 as follows:

PART 571—FEDERAL MOTOR VEHICLE SAFTEY STANDARDS

1. The authority citation for part 571 continues to read as follows:

Authority: 49 U.S.C. 322, 30111, 30115, 30117, and 30166; delegation of authority at 49 CFR 1.50.

2. Section 571.213 would be amended to revise paragraph (m) of S5.5.2, paragraph (k) of S5.5.5, S5.6.1.7, S5.6.2.2, S5.8, and Figures 9(a) and 9(b), to read as follows:

§ 571.213 Standard No. 213; Child restraint systems.

* * * * *

S5.5.2 * * *

(m) One of the following statements, inserting an address, a U.S. telephone number, and at the manufacturer's option, Web site:

(1) “Child restraints could be recalled for safety reasons. You must register this restraint to be reached in a recall. Send your name, address, e-mail address if available [preceding four words is optional] and the restraint's model number and manufacturing date to (insert address) or call (insert a U.S. telephone number). For recall information, call the U.S. Government's Auto Safety Hotline at 888-DASH-2-DOT.”

(2) “Child restraints could be recalled for safety reasons. You must register this restraint to be reached in a recall. Send your name, address, e-mail address if available [preceding four words is optional], and the restraint's model number and manufacturing date to (insert address) or call (insert a U.S. telephone number) or register online at (insert Web site for electronic registration form). For recall information, call the U.S. Government's Auto Safety Hotline at 888-DASH-2-DOT.”

* * * * *

S5.5.5 * * *

(k) One of the following statements, inserting an address, a U.S. telephone number, and at the manufacturer's option, Web site:

(1) “Child restraints could be recalled for safety reasons. You must register this restraint to be reached in a recall. Send your name, address, e-mail address if available (optional), and the restraint's model number and manufacturing date to (insert address) or call (insert a U.S. telephone number). For recall information, call the U.S. Government's Auto Safety Hotline at 888-DASH-2-DOT.”

(2) “Child restraints could be recalled for safety reasons. You must register this restraint to be reached in a recall. Send your name, address, e-mail address if available (optional), and the restraint's model number and manufacturing date to (insert address) or call (insert telephone number) or register online at (insert Web site for electronic registration form). For recall information, call the U.S. Government's Auto Safety Hotline at 888-DASH-2-DOT.”

* * * * *

S5.6.1.7 The instructions shall include one of the following statements inserting an address, a U.S. telephone number, and at manufacturer's option, Web site:

(a) “Child restraints could be recalled for safety reasons. You must register this restraint to be reached in a recall. Send your name, address, e-mail address if available (optional), and the restraint's model number and manufacturing date to (insert address) or call (insert a U.S. telephone number). For recall information, call the U.S. Government's Auto Safety Hotline at 888-DASH-2-DOT.”

(b) “Child restraints could be recalled for safety reasons. You must register this restraint to be reached in a recall. Send your name, address, e-mail address if available (optional), and the restraint's model number and manufacturing date to (insert address) or call (insert telephone number) or register online at (insert Web site for electronic registration form). For recall information, call the U.S. Government's Auto Safety Hotline at 888-DASH-2-DOT.”

* * * * *

S5.6.2.2 The instructions for each built-in child restraint system other than a factory-installed restraint, shall include one of the following statements, inserting an address, a U.S. telephone number, and at the manufacturer's option, Web site:

(a) “Child restraints could be recalled for safety reasons. You must register this restraint to be reached in a recall. Send your name, address, e-mail address if available [optional], and the restraint's model number and manufacturing date to (insert address) or call (insert a U.S. telephone number). For recall information, call the U.S. Government's Auto Safety Hotline at 888-DASH-2-DOT.”

(b) “Child restraints could be recalled for safety reasons. You must register this restraint to be reached in a recall. Send your name, address, e-mail address if available [optional], and the restraint's model number and manufacturing date to (insert address) or call (insert U.S. telephone number) or register online at (insert Web site for electronic registration form). For recall information, call the U.S. Government's Auto Safety Hotline at 888-DASH-2-DOT.”

* * * * *

S5.8 Information requirements—attached registration form and electronic registration form.

S5.8.1 Attached registration form.

(a) Each child restraint system, except a factory-installed built-in restraint system, shall have a registration form attached to any surface of the restraint that contacts the dummy when the dummy is positioned in the system in accordance with S6.1.2 of Standard 213.

(b) Each attached form shall:

(1) Consist of a postcard that is attached at a perforation to an informational card;

(2) Conform in size, content and format to Figures 9a and 9b of this section; and

(3) Have a thickness of at least 0.007 inches and not more than 0.0095 inches.

(c) Each postcard shall provide the model name or number and date of manufacture (month, year) of the child restraint system to which the form is attached, shall contain space for the purchaser to record his or her name, mailing address, and at the manufacturer's option, e-mail address, shall be addressed to the manufacturer, and shall be postage paid. No other information shall appear on the postcard, except identifying information that distinguishes a particular child restraint system from other systems of that model name or number may be preprinted in the shaded area of the postcard, as shown in figure 9a.

(d) Manufacturers may voluntarily provide a Web address on the attached registration form enabling owners to register child restraints online, provided that the Web address is a direct link to the electronic registration form meeting the requirements of S5.8.2 of this section.

S5.8.2 Electronic registration form.

(a) Each electronic registration form must meet the requirements of this S5.8.2. Each form shall:

(1) Contain the following statements at the top of the form:

(i) “FOR YOUR CHILD'S CONTINUED SAFETY” (Displayed in bold type face, caps, and minimum 12 point type.)

(ii) “Although child restraint systems undergo testing and evaluation, it is possible that a child restraint could be recalled.” (Displayed in bold typeface, caps and lower case, and minimum 12 point type.)

(iii) “In case of a recall, we can reach you only if we have your name and address, so please fill in the registration form to be on our recall list.” (Displayed in bold typeface, caps and lower case, and minimum 12 point type.)

(2) Provide as required registration fields, space for the purchaser to record the model name or number and date of manufacture (month, year) of the child restraint system, and space for the purchaser to record his or her name and mailing address. At the manufacturer's option, a space is provided the purchaser to record his or her e-mail address.

(b) No other information shall appear on the electronic registration form, except for information identifying the manufacturer or a link to the manufacturer's home page. Accessing the Web page that contains the electronic registration form shall not cause additional screens or electronic banners to appear.

(c) The electronic registration form shall be accessed directly by the Web address that the manufacturer printed on the attached registration form. The form must appear on screen when the consumer has inputted the Web address provided by the manufacturer, without any further keystrokes on the keyboard or clicks of the mouse.

* * * * *

BILLING CODE 4910-59-P

BILLING CODE 4910-59-C

PART 588—CHILD RESTRAINT SYSTEMS RECORDKEEPING REQUIREMENTS

1. The authority citation for part 588 would be revised to read as follows:

Authority: 49 U.S.C. 322, 30111, 30115, 30117, and 30166; delegation of authority at 49 CFR 1.50.

2. Section 588.5 would be revised to read as follows:

§ 588.5 Records.

Each manufacturer, or manufacturer's designee, shall record and maintain records of the owners of child restraint systems who have submitted a registration form. The record shall be in a form suitable for inspection such as computer information storage devices or card files, and shall include the names, mailing addresses, and if collected, e-mail addresses of the owners, and the model name or number and date of manufacture (month, year) of the owner's child restraint systems.

Issued on: June 4, 2004.
Stephen R. Kratzke,
Associate Administrator for Rulemaking.

[FR Doc. 04-13052 Filed 6-10-04; 8:45 am]

BILLING CODE 4910-59-P